DEPARTMENT OF THE INTERIOR

Bureau of Land Management

[AZ-200-1050-ET; AZA-31024]

Cancellation of Proposed Withdrawal; Arizona

AGENCY: Bureau of Land Management, Interior.

ACTION: Notice.

SUMMARY: This notice terminates the segregative effect of a proposed withdrawal of 112,790 acres of lands requested by the Bureau of Land Management at Perry Mesa. Presidential Proclamation No. 7263 established the Agua Fria National Monument so the withdrawal is not needed. This notice opens the lands that are not located within the Agua Fria National Monument to surface entry and mining.

EFFECTIVE DATE: March 19, 2001.

FOR FURTHER INFORMATION CONTACT: Jim Andersen, BLM Phoenix Field Office, 2015 W. Deer Valley Road, Phoenix, Arizona 85027, 623-580-5500.

SUPPLEMENTARY INFORMATION: A Notice of Proposed Withdrawal was published in the Federal Register, FR 99-20274, August 6, 1999, which temporarily segregated the lands described therein from location and entry under the general land laws, including the mining laws, subject to valid existing rights. The new Agua Fria National Monument includes most of the lands proposed for withdrawal, so the Bureau of Land Management has determined that the proposed withdrawal is not needed and has cancelled its application.

At 9 a.m. on March 19, 2001, the lands that were described in the Notice of Proposed Withdrawal in the Federal Register, FR 99-20274, August 6, 1999, that are not located within the Agua Fria National Monument, will be opened to operation of the public land laws generally, subject to valid existing rights, the provision of existing withdrawals, other segregations of record, and the requirements of applicable law. All valid applications received at or prior to 9 a.m. on March 19, 2001, shall be considered as simultaneously filed at that time. Those received thereafter shall be considered in the order of filing.

At 9 a.m. on March 19, 2001, the lands that were described in the Notice of Proposed Withdrawal in the Federal Register, FR 99-20274, August 6, 1999, that are not located within the Agua Fria National Monument will be opened to location and entry under the United States mining laws, subject to valid existing rights, the provision of existing withdrawals, and other segregations of record. Appropriation of any of the lands referenced in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: February 5, 2001.
Michael A. Ferguson,
Deputy State Director, Resources Division.

[FR Doc. 01-3821 Filed 2-14-01; 8:45 am]

BILLING CODE 4310-32-P